DEPARTMENT OF COMMERCE

International Trade Administration

[A-580-831]

Stainless Steel Plate in Coils From the Republic of Korea: Extension of Time Limit for the Preliminary Results of the Antidumping Duty Administrative Review

AGENCY: Import Administration, International Trade Administration, Department of Commerce.

ACTION: Notice of extension of time limit for the preliminary results of antidumping duty administrative review.

SUMMARY: The Department of Commerce (“the Department”) is extending the time limit for the preliminary results of the review of stainless steel plate in coils from the Republic of Korea. This review covers the period November 4, 1998 through April 30, 2000.

EFFECTIVE DATE: December 26, 2000.

FOR FURTHER INFORMATION CONTACT: Rick Johnson at (202) 482-3818; Office of AD/CVD Enforcement, Group III, Office 9, Import Administration, International Trade Administration, U.S. Department of Commerce, 14th Street and Constitution Avenue, NW, Washington, DC 20230.

The Applicable Statute

Unless otherwise indicated, all citations to the statute are references to the provisions effective January 1, 1995, the effective date of the amendments made to the Tariff Act of 1930 (the Act) by the Uruguay Round Agreements Act (URAA).

Postponement of Preliminary Results

The Department has determined that it is not practicable to issue its preliminary results of the administrative review within the current time limit of January 31, 2001. See Decision Memorandum from Edward C. Yang, Director, Office 9, to Joseph A. Spetrini, Deputy Assistant Secretary, Enforcement Group III. Therefore, the Department is extending the time limit for completion of the preliminary results until March 19, 2001, in accordance with section 751(a)(3)(A) of the Act.

Dated: December 18, 2000.
Joseph A. Spetrini,
Deputy Assistant Secretary Enforcement Group III.

[FR Doc. 00-32872 Filed 12-22-00; 8:45 am]

BILLING CODE 3510-DS-P